DEPARTMENT OF COMMERCE

Foreign-Trade Zones Board

[S-214-2023]

Foreign-Trade Zone 26; Application for Subzone; Helena Industries, LLC; Cordele, Georgia; Correction

The Federal Register notice published on November 14, 2023 (88 FR 77952) regarding the subzone application for Helena Industries, LLC, located in Cordele, Georgia, is corrected as follows:

In the first paragraph, first sentence, the grantee organization should read “Georgia Foreign-Trade Zone, Inc., grantee of FTZ 26”.

For further information contact Christopher Kemp at Christopher.Kemp@trade.gov.

Dated: November 14, 2023.
Elizabeth Whiteman,
Executive Secretary.

[FR Doc. 2023-25467 Filed 11-16-23; 8:45 am]

BILLING CODE 3510-DS-P